DEPARTMENT OF THE TREASURY

Internal Revenue Service

Community Volunteer Income Tax Assistance (VITA) Matching Grant Program—Availability of Application Packages; Correction

AGENCY: Internal Revenue Service (IRS), Treasury.

ACTION: Correction to a notice.

SUMMARY: This document contains a correction to a notice of the Community Volunteer Income Tax Assistance (VITA) Matching Grant Program, which was published in the Federal Register on Wednesday, April 28, 2010 (75 FR 22437). This notice provides notice of the availability of application packages for the 2011 Community Volunteer Income Tax Assistance (VITA) Matching Grant Program.

FOR FURTHER INFORMATION CONTACT: The Grant Program Office at (404) 338-7894 (not a toll free number) or by e-mail at Grant.Program.Office@irs.gov.

SUPPLEMENTARY INFORMATION:

Background

Authority for the 2011 Community Volunteer Income Tax Assistance (VITA) Matching Grant Demonstration Program for tax return preparation is contained in the Consolidated Appropriation Act, 2010, Public Law 111-117, signed December 16, 2009.

Need for Correction

As published, the notice of the Community Volunteer Income Tax Assistance (VITA) Matching Grant Program contains an error which may prove to be misleading and is in need of clarification.

Correction of Publication

Accordingly, the publication of the Community Volunteer Income Tax Assistance (VITA) Matching Grant Program, which was the subject of FR Doc. 2010-9771, is corrected as follows:

On page 22437, column 1, under the caption DATES: The language “Application packages are available from the IRS at this time. The deadline for submitting an application to the IRS for the Community VITA Matching Grant Program is July 9, 2010.” is corrected to read “Application packages are available from the IRS beginning June 1, 2010. The deadline for submitting an application to the IRS for the Community VITA Matching Grant Program is July 9, 2010.”.

LaNita Van Dyke,
Chief, Publications and Regulations Branch, Legal Processing Division, Associate Chief Counsel (Procedure and Administration).

[FR Doc. 2010-10974 Filed 5-6-10; 8:45 am]

BILLING CODE 4830-01-P